DEPARTMENT OF AGRICULTURE

Forest Service

Notice of Proposed New Fee Sites; Federal Lands Recreation Enhancement Act, (Title VIII, Pub. L. 108-447)

AGENCY: Chequamegon-Nicolet National Forest, USDA Forest Service.

ACTION: Notice of proposed new fee sites.

SUMMARY: The Chequamegon-Nicolet National Forest is proposing new recreation fee sites and increasing fees at 15 of the 45 developed campgrounds. Fees are assessed based on the level of amenities and services provided, cost of operations and maintenance, and market assessment. These fees are proposed and will be determined upon further analysis and public comment. Funds from fees would be used for the continued operation and maintenance and improvements to the facilities within the recreation areas. An analysis of nearby recreation facilities with similar amenities shows that the proposed fees are reasonable and typical of similar sites in the area.

DATES: To ensure consideration of public comments, comments shall be submitted on or before September 30, 2019. If approved, new fees would be implemented as improvements are made to recreation sites and chalet rentals are available on recreation.gov.

ADDRESSES: Paul I.V. Strong, Forest Supervisor, Chequamegon-Nicolet National Forest, 500 Hanson Lake Road Rhinelander, WI 54501.

FOR FURTHER INFORMATION CONTACT: Hilary Markin, Public Affairs Officer, 715-362-1354. Information about these and other proposed fee changes can also be found on the Chequamegon-Nicolet National Forest website: https://www.fs.usda.gov/CNNF.

SUPPLEMENTARY INFORMATION: The Chequamegon-Nicolet National Forest is proposing new recreation fee sites and increasing fees at 15 of the 45 developed campgrounds. The Chequamegon-Nicolet's proposal includes: A $50 daily rental fee for the Lake Owen Chalet, a $50 daily rental fee for the Namekagon Chalet, and a $75 daily rental fee for Mount Valhalla Chalet. These chalets would be available for daily rentals as picnic or event shelters. In addition, the forest is proposing to add three day use sites at $5 to the Forest's day use fee program including the Boulder Lake Beach, Boulder Lake Boat Landing, & Mineral Lake Boat Landing. Lastly, a new $5 expanded amenity fee is proposed for the Boulder Lake Dump Station. Proposed fee eliminations include: Five day use fees and seven campground expanded amenity fees. These fees are proposed and will be determined upon further analysis and public comment. Funds from fees would be used for the continued operation and maintenance and improvements to the facilities within the recreation areas. An analysis of nearby recreation facilities with similar amenities shows that the proposed fees are reasonable and typical of similar sites in the area.

The Federal Recreation Lands Enhancement Act (Title VII, Pub. L. 108-447) directed the Secretary of Agriculture to publish a six month advance notice in the Federal Register whenever new recreation fee areas are established. All proposed day use sites have the six amenities required under the Federal Lands Recreation Enhancement Act and are similar to other fee sites on the Chequamegon-Nicolet National Forest.

Dated: July 8, 2019.
Richard A. Cooksey,
Acting Associate Deputy Chief, National Forest System.

[FR Doc. 2019-16296 Filed 7-30-19; 8:45 am]

BILLING CODE 3411-15-P